DEPARTMENT OF COMMERCE

National Oceanic and Atmospheric Administration

[I.D. 022701F]

Advisory Committee to the U.S. Section to the International Commission for the Conservation of Atlantic Tunas (ICCAT); Spring Species Working Group Meeting

AGENCY: National Marine Fisheries Service (NMFS), National Oceanic and Atmospheric Administration (NOAA), Commerce.

ACTION: Notice of public meeting.

SUMMARY: The Advisory Committee to the U.S. Section to ICCAT announces its spring meeting with its Species Working Groups on April 9 and 10, 2001.

DATES: The open sessions of the Committee meeting will be held on April 9, 2001, from 9:30 a.m. to 12 p.m., and on April 10, 2001, from 11:30 a.m. to 5 p.m. Closed sessions will be held on April 9, 2001, from 1:15 p.m. to approximately 6 p.m., and on April 10, 2001, from 9 a.m. to 11:30 a.m.

ADDRESSES: The meeting will be held at the Holiday Inn Silver Spring, 8777 Georgia Avenue, Silver Spring, MD 20910.

FOR FURTHER INFORMATION CONTACT: Kim Blankenbeker or Rachel Husted at (301) 713-2276.

SUPPLEMENTARY INFORMATION: The Advisory Committee to the U.S. Section to ICCAT will meet in open session to discuss: (1) 2000 ICCAT meeting results and U.S. implementation of ICCAT decisions, (2) NMFS and ICCAT research and monitoring activities, (3) recent work of the Food and Agriculture Organization, (4) Advisory Committee operational issues, (5) consultation regarding the identification of countries that are diminishing the effectiveness of ICCAT, (6) the results of the meetings of the Committee’s Species Working Groups, and (7) other matters relating to the international management of ICCAT species. The public will have access to the open sessions of the meeting, but there will be no opportunity for public comment.

The Advisory Committee will go into executive session during the afternoon of April 9 and the morning of April 10 to discuss sensitive information, including upcoming intersessional meetings of ICCAT. These sessions are not open to the public. Sessions of the Advisory Committee’s Species Working Groups will not be open to the public, but the results of the working group discussions will be reported in open session on April 10.

Special Accommodations

The meeting locations are physically accessible to people with disabilities. Requests for sign language interpretation or other auxiliary aids should be directed to Rachel Husted at (301) 713-2276 at least 5 days prior to the meeting date.

Dated: March 9, 2001.
Bruce C. Morehead,
Acting Director, Office of Sustainable Fisheries, National Marine Fisheries Service.

[FR Doc. 01-6353 Filed 3-13-01; 8:45 am]

BILLING CODE 3510-22-S